NUCLEAR REGULATORY COMMISSION

[Docket Nos. 50-348, 50-364; and 50-424, 50-425; NRC-2021-0139]

Southern Nuclear Operating Company; Joseph M. Farley Nuclear Plant, Units 1 and 2; Vogtle Electric Generating Plant, Units 1 and 2

AGENCY: Nuclear Regulatory Commission.

ACTION: Exemption; issuance.

SUMMARY: The U. S. Nuclear Regulatory Commission (NRC) is granting exemptions in response to a request dated June 9, 2021, from Southern Nuclear Operating Company, Inc., seeking exemptions from specific regulations that require periodic updates of the Farley Nuclear Plant, Units 1 and 2, and Vogtle Electric Generating Plant, Units 1 and 2, Updated Final Safety Reports (UFSARs).

DATES: The exemption was issued on August 4, 2021.

ADDRESSES: Please refer to Docket ID NRC-2021-0139 when contacting the NRC about the availability of information regarding this document. You may obtain publicly available information related to this document using any of the following methods:

• Federal Rulemaking Website: Go to https://www.regulations.gov and search for Docket ID NRC-2021-0139. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: John G. Lamb, Office of Nuclear Reactor Regulation, U.S. Nuclear Regulatory Commission, Washington, DC 20555-0001, telephone: 301-415-3100, email: John.Lamb@nrc.gov.

SUPPLEMENTARY INFORMATION: The text of the exemptions is attached.

Dated: August 6, 2021.
For the Nuclear Regulatory Commission.
John G. Lamb,
Senior Project Manager, Plant Licensing Branch 2-1, Division of Operating Reactor Licensing, Office of Nuclear Reactor Regulation.

Attachment—Exemption

NUCLEAR REGULATORY COMMISSION

Docket Nos. 50-348, 50-364; and 50-424, 50-425

Southern Nuclear Operating Company

Joseph M. Farley Nuclear Plant, Units 1 and 2

Vogtle Electric Generating Plant, Units 1 and 2

I. Background

Southern Nuclear Operating Company (SNC, the licensee) is the holder of Facility Operating License Nos. NPF-2, NPF-8, NPF-68, and NPF-81, for the Joseph M. Farley Nuclear Plant (Farley), Units 1 and 2; and the Vogtle Electric Generating Plant (Vogtle), Units 1 and 2, respectively. The licenses provide, among other things, that the licensee is subject to all rules, regulations, and orders of the Commission now or hereafter in effect. The Farley, Units 1 and 2; and Vogtle, Units 1 and 2, facilities consist of two pressurized-water reactors located at each of the licensee's sites in Houston County, Alabama, and Burke County, Georgia, respectively.

II. Request/Action

In accordance with Section 50.71 of title 10 of the Code of Federal Regulations (10 CFR), “Maintenance of records, making of reports,” paragraph (e)(4) states, in part, that “Subsequent revisions [to the Updated Final Safety Analysis Report (UFSAR) submitted as part of the original license application] must be filed annually or 6 months after each refueling outage provided the interval between successive updates [to the UFSAR] does not exceed 24 months.” By letter dated June 9, 2021 (ADAMS Accession No. ML21160A156), SNC requested that the due date for submittal of the Farley, Units 1 and 2, UFSAR be by October 31 of every odd-numbered year, provided the interval between successive updates does not exceed 24 months, and that the due date for submittal of the Vogtle, Units 1 and 2, UFSAR be by October 31 of every even-numbered year, provided the interval between successive updates does not exceed 24 months.

Pursuant to 10 CFR 50.12, “Implementation of the Equal Access to Justice Act in Agency Proceeding,” the NRC may, upon application by any interested person or upon its own initiative, grant exemptions from the requirements of 10 CFR part 50, “Domestic Licensing of Production and Utilization Facilities,” including 10 CFR 50.71(e)(4) when: (1) The exemptions are authorized by law, will not present an undue risk to the public health and safety, and are consistent with the common defense and security; and (2) special circumstances are present. Under 10 CFR 50.12(a)(2), special circumstances include, among other things, whenever application of the regulation in the particular circumstances would not serve, or is not necessary to achieve, the underlying purpose of the rule.

III. Discussion

The Exemption Is Authorized by Law

The regulation at 10 CFR 50.71(e)(4) requires revisions to UFSARs to be filed annually or six months after each refueling outage, provided the interval between successive updates does not exceed 24 months. The underlying purpose of the regulation is to ensure that the licensee periodically updates its UFSAR so that the UFSAR remains up-to-date and accurately reflects the plant design and operation. The proposed exemptions would change the current UFSAR submittal schedule for Farley, Units 1 and 2, and Vogtle, Units 1 and 2, to a calendar-based schedule that would not exceed the maximum 24 months between successive updates as required by 10 CFR 50.71(e)(4). Submitting the UFSAR updates for Farley, Units 1 and 2; and Vogtle, Units 1 and 2, as proposed by October 31 of the odd year and by October 31 of the even year, respectively, continues to meet the intent of the regulation and maintaining UFSAR information up-to-date. The NRC staff has determined that granting the licensee's proposed exemptions will not result in a violation of the Atomic Energy Act of 1954, as amended, or the Commission's regulations. Therefore, the exemptions are authorized by law.

The Exemption Presents No Undue Risk to Public Health and Safety

The underlying purpose of 10 CFR 50.71(e)(4) is to ensure that licensees periodically update their UFSARs so that the UFSARs remain up-to-date and accurately reflect the plant design and operation. The NRC has determined by rule that an update frequency not exceeding 24 months between successive updates is acceptable for maintaining up to date UFSAR content. Farley, Units 1 and 2, were granted an exemption dated July 7, 1998 (ADAMS Accession No. ML013130216), that allowed the licensee to submit a unified UFSAR update for both units every 18 months, not to exceed 24 months from the last submittal. Vogtle, Units 1 and 2, were granted an exemption dated March 5, 1998 (ADAMS Accession No. ML012410088), that allowed the licensee to submit a unified UFSAR update for both units every 18 months, not to exceed 24 months from the last submittal. While the regulation requires, in part, that UFSAR updates be submitted “annually or 6 months after each refueling outage,” it allows the submission of such updates on a different schedule, “provided the interval between successive updates does not exceed 24 months.” The requested exemptions also meet the intent of the rule for regulatory burden reduction. Additionally, based on the nature of the requested exemptions and the requirement that updates will not exceed 24 months from the last submittal as described in this notice, no new accident precursors are created by the exemptions; therefore, neither the probability nor the consequences of postulated accidents are increased. In conclusion, the requested exemptions do not result in any undue risk to the public health and safety.

The Exemption Is Consistent With the Common Defense and Security

The requested exemptions from 10 CFR 50.71(e)(4) would allow SNC to submit its periodic updates to the Farley, Units 1 and 2, UFSAR by October 31 of odd-numbered years, not to exceed 24 months from the last submittal, and periodic updates to the Vogtle, Units 1 and 2, UFSAR by October 31 of even-numbered years, not to exceed 24 months from the last submittal. Neither the regulation nor the proposed exemptions have any relation to security issues. Therefore, the common defense and security is not impacted by the exemptions.

Special Circumstances

Special circumstances, in accordance with 10 CFR 50.12(a)(2)(ii), are present whenever application of the regulation in the particular circumstances would not serve the underlying purpose of the rule or is not necessary to achieve the underlying purpose of the rule. The rule change promulgated in August 1992 (57 FR 39358; August 31, 1992) was intended to provide a reduction in regulatory burden by providing licensees with the option to submit UFSAR updates once per refueling outage, not to exceed 24 months between successive updates, instead of annually. Currently, Farley, Units 1 and 2, and Vogtle, Units 1 and 2, submit a combined UFSAR for each site every 18 months, not to exceed 24 months from the last submittal. The processing and submittal of the UFSAR every 18 months is not necessary to achieve the underlying purpose of the rule in that the licensee continues to meet the maximum 24-month interval between submittals as required by the regulation. Therefore, special circumstances exist under 10 CFR 50.12(a)(2)(ii) in that application of the requirements in these particular circumstances, would not serve the underlying purpose of the rule and are not necessary to achieve the underlying purpose of the rule.

Environmental Considerations

With respect to the impact of the exemptions on the quality of the human environment, the NRC has determined that the issuance of the exemptions discussed herein meets the eligibility criteria for categorical exclusion from the requirement to prepare an environmental assessment or environmental impact statement, set forth in 10 CFR 51.22(c)(25).

Under 10 CFR 51.22(c)(25), the granting of an exemption from the requirements of any regulation of 10 CFR chapter I (which includes 10 CFR 50.71(e)(4)) is an action that is a categorical exclusion, provided that certain specified criteria are met. The basis for NRC's determination is provided in the following evaluation of the requirements in 10 CFR 51.22(c)(25)(i)-(vi).

Requirements in 10 CFR 51.22(c)(25)(i):

To qualify for a categorical exclusion under 10 CFR 51.22(c)(25)(i), the exemption must involve no significant hazards consideration. The criteria for determining whether an action involves a significant hazards consideration are found in 10 CFR 50.92. The proposed action involves only a schedule change regarding the submission of an update to the UFSAR. As set forth in that regulation, there are no significant hazard considerations because granting the exemptions would not: (1) Involve a significant increase in the probability or consequences of an accident previously evaluated; or (2) create the possibility of a new or different kind of accident from any accident previously evaluated; or (3) involve a significant reduction in a margin of safety.

Requirements in 10 CFR 51.22(c)(25)(ii):

There is no significant change in the types or significant increase in the amounts of any effluents that may be released offsite. The proposed action involves only a schedule change, which is administrative in nature, and does not involve any changes in the types or increase in the amounts of any effluents that may be released offsite.

Requirements in 10 CFR 51.22(c)(25)(iii):

There is no significant increase in individual or cumulative public or occupational radiation exposure. Since the proposed action involves only a schedule change, which is administrative in nature, it does not contribute to any significant increase in individual or cumulative public or occupational radiation exposures.

Requirements in 10 CFR 51.22(c)(25)(iv):

There is no significant construction impact. Since the proposed action involves only a schedule change related to the timing for submittal of UFSAR updates, which is administrative in nature, it does not involve any construction impact.

Requirements in 10 CFR 51.22(c)(25)(v):

There is no significant increase in the potential for or consequences from radiological accidents. The proposed action involves only a schedule change related to the timing for submittal of UFSAR updates, which is administrative in nature and does not impact the potential for or consequences from radiological accidents.

Requirements in 10 CFR 51.22(c)(25)(vi):

The requirements from which the exemption is sought involve recordkeeping, reporting, scheduling, or other requirements of an administrative, managerial, or organizational nature. The proposed action involves recordkeeping, reporting, and scheduling requirements, and other requirements of an administrative, managerial, or organizational nature because it is associated with the schedule for submittal of UFSAR updates pursuant to 10 CFR 50.71(e)(4), and meets that regulation's requirement that the interval between successive updates does not exceed 24 months.

Based on the previously noted requirements, the NRC staff concludes that the proposed exemptions meet the eligibility criteria for the categorical exclusion set forth in 10 CFR 51.22(c)(25). Therefore, in accordance with 10 CFR 51.22(b), no environmental impact statement or environmental assessment need be prepared in connection with the NRC's issuance of these exemptions.

IV. Conclusions

Accordingly, the Commission has determined that, pursuant to 10 CFR part 50.12, the requested exemptions are authorized by law, will not present an undue risk to public health and safety, and are consistent with the common defense and security. Also, special circumstances, pursuant to 10 CFR 50.12(a)(2)(ii), are present. Therefore, the NRC hereby grants SNC an exemption from the requirements of 10 CFR 50.71(e)(4) to allow SNC to file its periodic updates to the Farley, Units 1 and 2, UFSAR by October 31 of odd-numbered years, not to exceed 24 months from the last submittal, and to the Vogtle, Units 1 and 2, UFSAR by October 31 of even-numbered years, not to exceed 24 months from the last submittal.

The exemptions are effective upon issuance.

Dated: August 4, 2021.

For the Nuclear Regulatory Commission.

/RA/

Caroline L. Carusone,

Deputy Director, Division of Operating Reactor Licensing, Office of Nuclear Reactor Regulation.

[FR Doc. 2021-17116 Filed 8-10-21; 8:45 am]

BILLING CODE 7590-01-P